DEPARTMENT OF COMMERCE

International Trade Administration

(C-533-839)

Carbazole Violet Pigment 23 from India: Rescission of Countervailing Duty Administrative Review

AGENCY: Import Administration, International Trade Administration, Department of Commerce.

SUMMARY: On December 3, 2007, the Department published a notice of opportunity to request an administrative review of the countervailing duty order on carbazole violet pigment 23 from India. On December 31, 2007, Nation Ford Chemical Company and Sun Chemical Corporation, the petitioners, requested that the U.S. Department of Commerce (the Department) conduct an administrative review of two manufacturer/exporters of subject merchandise, Alpanil Industries Limited (Alpanil) and Pidilite Industries Limited (Pidilite). The petitioners were the only party to request this administrative review. The review was initiated on January 28, 2008. See Initiation of Antidumping and Countervailing Duty Administrative Reviews and Request for Revocation in Part, 73 FR 4829 (January 28, 2008). The period of review (POR) is from January 1, 2006 through December 31, 2006. Petitioners withdrew their request for administrative review on April 25, 2008.

EFFECTIVE DATE: July 31, 2008.

CONTACT INFORMATION: Sean Carey or Gene Calvert, AD/CVD Operations, Office 6, Import Administration, International Trade, U.S. Department of Commerce, 14th Street and Constitution Avenue, NW, Washington DC 20230; telephone: (202) 482-3964 or (202) 482-3586, respectively.

SUPPLEMENTARY INFORMATION:

Scope of the Order

The product covered by this countervailing duty order is CVP-23 identified as Color Index No. 51319 and Chemical Abstract No. 6358-30-1, with the chemical name of diindolo [3,2-b:3',2'-m] triphenodioxazine, 8,18-dichloro-5,15-diethy-5,15-dihydro-, and molecular formula of C34H22Cl2N4O2.1. The subject merchandise includes the crude pigment in any form (e.g., dry powder, paste, wet cake) and finished pigment in the form of presscake and dry color. Pigment dispersions in any form (e.g., pigments dispersed in oleoresins, flammable solvents, water) are not included within the scope of the review. The merchandise subject to this review is classifiable under subheading 3204.17.9040 of the Harmonized Tariff Schedule of the United States (HTSUS). Although the HTSUS subheading is provided for convenience and customs purposes, our written description of the merchandise in the scope of the order is dispositive.

Rescission of Administrative Review

Pursuant to 19 CFR 351.213(d)(1), the Secretary will rescind an administrative review under this section, in whole or in part, if a party that requested a review withdraws the request within 90 days of the date of publication of the notice of initiation of the requested review. No other party requested an administrative review of the countervailing duty order on carbazole violet pigment 23 from India. Petitioners withdrew their request on both Alpanil and Pidilite within the 90 days of the January 28, 2008 publication of the notice of initiation of this administrative review. Therefore, in response to petitioners' withdrawal of their request for an administrative review pursuant to 19 CFR 351.213(d)(1), the Department hereby rescinds the administrative review of the countervailing duty order on carbazole violet pigment 23 from India. The Department intends to issue assessment instructions to U.S. Customs and Border Protection 15 days after the date of publication of this rescission of administrative review.

This notice serves as a reminder to parties subject to administrative protective order (APO) of their responsibility concerning the disposition of proprietary information disclosed under APO in accordance with 19 CFR 351.305(a)(3). Timely written notification of the return or destruction of APO materials or conversion to judicial protective disorder is hereby requested. Failure to comply with the regulations and terms of APO is a sanctionable violation.

This notice is published in accordance with the sections 751(a)(1) and 777(i)(1) of the Tariff Act of 1930, as amended, and 19 CFR 351.213(d)(4).

Dated: July 24, 2008.
Stephen J. Claeys,
Deputy Assistant Secretary for Import Administration.

[FR Doc. E8-17585 Filed 7-30-08; 8:45 am]

BILLING CODE 3510-DS-S